DEPARTMENT OF LABOR

Employment and Training Administration

[TA-W-39,573]

Cooper Wiring Devices, Georgetown, SC; Amended Certification Regarding Eligibility To Apply for Worker Adjustment Assistance

In accordance with section 223 of the Trade Act of 1974 (19 U.S.C 2273) the Department of Labor issued a Certification of Eligibility to Apply for Worker Adjustment Assistance on August 29, 2001, applicable to workers of Cooper Wiring Devices, Assembly Department, Georgetown, South Carolina. The notice was published in the Federal Register on September 11, 2001 (66 FR 47241).

At the request of the company, the Department reviewed the certification for workers of the subject firm. Findings show that the Department limited its certification coverage to workers of the subject firm's Assembly Department.

New company information shows that workers separations will continue at the Georgetown, South Carolina plant as all remaining production related to wiring devices shifts to Mexico. The company is increasing its imports of wiring devices.

It is the intent of the Department to include “all workers” of Cooper Wiring Devices adversely affected by increased imports of wiring devices.

The amended notice applicable to TA-W-39,573 is hereby issued as follows:

All workers of Cooper Wiring Devices, Georgetown, South Carolina who became totally or partially separated from employment on or after June 27, 2000, through August 29, 2003, are eligible to apply for adjustment assistance under section 223 of the Trade Act of 1974.

Signed at Washington, DC this 8th day of March, 2002.
Linda G. Poole,
Certifying Officer, Division of Trade Adjustment Assistance.

[FR Doc. 02-9747 Filed 4-19-02; 8:45 am]

BILLING CODE 4510-30-M